GENERAL SERVICES ADMINISTRATION

Public Buildings Service, Portfolio Management Division (9PT); Notice of Public Meeting

The General Services Administration (GSA) is in the process of investigating a potential site for the U.S. Border Patrol in the vicinity of Madison Avenue and Guava Street in Murrieta, CA, and is developing an Environmental Assessment for the project. A public meeting will be held at the Murrieta City Council Chambers, 26442 Beckman Court, Murrieta, CA 92562, on May 9, 2001, at 6 p.m. For additional information regarding this project, call Kevin Waldron, Project Manager, at (415) 522-3275, General Services Administration, Public Buildings Service, Portfolio Management Division, 450 Golden Gate Avenue (9PTC), San Francisco, CA 94102.

Dated: April 17, 2001.
Abdee Gharavi,
Director (9PT), Portfolio Management Division, PBS, General Services Administration.

[FR Doc. 01-11148 Filed 5-2-01; 8:45 am]

BILLING CODE 6820-61-M